DEPARTMENT OF COMMERCE

International Trade Administration

[A-821-814]

Notice of Final Determination of Sales at Less Than Fair Value: Structural Steel Beams From the Russian Federation

AGENCY: Import Administration, International Trade Administration, Department of Commerce.

ACTION: Notice of final determination of sales at less than fair value.

SUMMARY: On December 28, 2001, the Department of Commerce published its preliminary determination of sales at less than fair value of structural steel beams from the Russian Federation. On January 7 and 9, 2002, we received timely allegations of ministerial errors from the petitioner and the respondent. Because we agreed with the interested parties' ministerial-error allegations, we published on January 31, 2002, the amended preliminary antidumping duty determination of sales at less than fair value of structural steel means from the Russian Federation.

Based on our analysis of the comments received and certain findings from the verifications, we have made changes in the margin calculations. Therefore, the final determination differs from the amended preliminary determination.

We find that structural steel beams from the Russian Federation are being, or are likely to be, sold in the United States at less than fair value as provided in section 735 of the Tariff Act of 1930, as amended. The estimated margin of sales at less than fair value are shown in the “Continuation of Suspension of Liquidation” section of this notice.

EFFECTIVE DATE: May 20, 2002.

FOR FURTHER INFORMATION CONTACT: Hermes Pinilla or Richard Rimlinger, AD/CVD Enforcement Group I, Office 3, Import Administration, International Trade Administration, U.S. Department of Commerce, 14th Street and Constitution Avenue, NW., Washington, DC 20230; telephone: (202) 482-3477 or (202) 482-4477, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the regulations of the Department of Commerce (the Department) are to 19 CFR Part 351 (April 2001).

Final Determination

We determine that structural steel beams from the Russian Federation are being, or are likely to be, sold in the United States at less than fair value (LTFV), as provided in section 735 of the Act.

Case History

The preliminary determination in this investigation was issued on December 28, 2001. See Notice of Preliminary Determination of Sales at Less Than Fair Value and Postponement of Final Determination: Structural Steel Beams From the Russian Federation, 66 FR 66217 (Dec. 28, 2001) (Preliminary Determination). On January 7 and 9, 2002, we received timely allegations of ministerial errors from the petitioner and the respondent. Because we agreed with the interested parties' ministerial-error allegations, we published the amended preliminary antidumping duty determination of sales at less than fair value of structural steel beams from the Russian Federation. See Notice of Amended Preliminary Determination of Sales at Less Than Fair Value: Structural Steel Beams From the Russian Federation, 67 FR 4704 (January 31, 2002).

In March, we conducted verification of the questionnaires responses of the sole respondent in this case, Nizhny Tagil Iron and Steel Works (Tagil).

On April 15, 2002, we received a case brief from the petitioner (i.e., the Committee for Fair Beam Imports), and on April 17, 2002, the respondent submitted its rebuttal brief.

Scope of Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors, or attachments to I-sections, H-sections, or pilings; however, if the only additional weldment, connector or attachment on the beam is a shipping brace attached to maintain stability during transportation, the beam is not removed from the scope definition by reason of such additional weldment, connector, or attachment.

The merchandise subject to this investigation is currently classified in the Harmonized Tariff Schedule of the United States (HTSUS) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Scope Comments

Prior to the preliminary determination in this case, interested parties in this and the concurrent structural steel beams investigations requested that the following products be excluded from the scope of the investigations: (1) Beams of grade A913/65 and (2) forklift mast profiles. We preliminarily found that both products fell within the scope of this investigation. Because we have received no further scope comments in this proceeding, we are making a final determination that these products fall within the scope of this investigation.

Period of Investigation

The period of investigation (POI) is October 1, 2000, through March 31, 2001.

Analysis of Comments Received

All issues raised in the case briefs by the petitioner to this proceeding and to which we have responded are listed in the Appendix to this notice and addressed in the Decision Memorandum, which is adopted by this notice. Parties can find a complete discussion of the issues raised in this investigation and the corresponding recommendations in this public memorandum, which is on file in the Central Records Unit, room B-099 of the main Commerce Building. In addition, a complete version of the Decision Memorandum can be accessed directly on the Web at http://ia.ita.doc.gov/frn/. The paper copy and electronic version of the Decision Memorandum are identical in content.

Changes Since the Preliminary Determination

Based on our findings at verification and analysis of comments we received, we have made certain adjustments to the margin calculations. For a discussion of these changes, see the Decision Memorandum. These revisions are as follows:

1. In the Preliminary Determination, we used the 1997 financial statements of Eregli Demir ve Celik Fabrikalari TAS (Erdemir), a Turkish steel producer, to value overhead selling, general, and administrative (SG&A) expenses and profit ratios. For the final determination of this investigation, we have used the 2000 financial statement of Erdemir to value overhead SG&A expenses and profit ratios. For further details see analysis memorandum (analysis memorandum) dated May 10, 2002.

2. During our sales verification we found that Tagil had misreported its inventory carrying costs. Therefore, for the final determination of this investigation, we revised Tagil's inventory carrying costs. See the sales verification report dated March 22, 2002, at page 23. See also analysis memorandum.

3. During our sales verification we found that Tagil's factor for indirect selling expenses changed slightly. Therefore, for the final determination of this investigation, we have revised Tagil's factor for indirect selling expenses. See the sales verification report dated March 22, 2002, at page 22. See also analysis memorandum.

4. During our verification of Tagil's factors-of-production information we found that Tagil misreported its labor costs by basing its labor costs on a 7.5-hour workday instead of the eight hours for which the workers were actually paid. Therefore, for the final determination of this investigation, we revised Tagil's labor figures to capture total labor hours associated with the production of the subject merchandise. See the factors-of-production verification report dated April 5, 2002, at page 2. See also analysis memorandum.

5. During our factors-of-production verification we found that Tagil misreported the several distances from the supplier to Tagil's factory. Therefore, for the final determination of this investigation, we revised, where applicable, Tagil's reported distances from the supplier to the factory. See the factors-of-production verification report dated April 5, 2002, at page 2. See also analysis memorandum.

6. Because of numerous corrections which Tagil presented during the factors-of-production verification, we requested that it revise its factors-of-production database and submit a new factors-of-production database for the final determination.

7. For the final results of this investigation, we are using current information regarding South African imports of slag, dross, scalings and waste as reported in the Tradstat data service to value slag, waste, and vanadium. See the petitioner's February 6, 2002, submission at exhibit 3. See also analysis memorandum.

8. We determined to use the second alternative calculation of Tagil's short-term borrowing rate for the final results. See sales verification report dated March 22, 2002, at page 19, footnote 5. Consequently, we revised Tagil's credit expenses and inventory carrying costs to reflect the revised short-term borrowing rate. See analysis memorandum.

9. Upon review of our calculations for the Preliminary Determination, we found that the import statistics the respondent proposed and which we used to value lime/limestone vary from each other significantly. Therefore, we re-evaluated the use of these statistics and contacted a lime specialist with the U.S. Geological Survey. The lime specialist explained that the lime which is most likely used in the steel industry is categorized under HTS numbers 2522.10.0000, 2522.20.000, and 2522.30.000, not under HTS number 2521000 as proposed by the respondent. Therefore, based on this information, we have used import statistics for calendar year 2000 pertinent to HTS numbers under subcategory 2522 for the final determination. For further detail, see analysis memorandum.

10. For the final results of this investigation, we have accounted for the differences in calorific or energy potential and valued by-product gases according to their proper natural gas equivalents. For further details, see analysis memorandum.

Verification

As provided in section 782(i) of the Act, we verified the information submitted by the respondent for use in our final determination. We used standard verification procedures, including examination of relevant accounting and production records, and original source documents, provided by the respondent.

Russia-Wide Rate

In all non-market economy (NME) cases, the Department implements a policy whereby there is a rebuttable presumption that all exporters or producers located in the NME comprise a single exporter under common government control, the “NME entity.” The Department assigns a single NME rate to the NME entity unless an exporter can demonstrate eligibility for a separate rate.

Tagil has qualified for a separate rate. Furthermore, the information on the record of this investigation indicates that Tagil is the only Russian producer and/or exporter of the subject merchandise with sales or shipments to the United States during the POI. Based upon our examination and clarification of U.S. Customs Service data, we have determined that there are no other Russian producers and/or exporters of the subject merchandise and consequently none which were required to respond to our questionnaire. Because the only known Russian producer of steel beams, Tagil, responded to our questionnaire and the evidence indicates that there are no other Russian producers or exporters of subject merchandise during the POI, we have calculated a Russia-wide rate for this investigation based on the weighted-average margin we determined for Tagil. This Russia-wide rate applies to all entries of subject merchandise except for entries of subject merchandise exported by Tagil.

Continuation of Suspension of Liquidation

In accordance with section 735(c)(1)(B) of the Act, we are directing the Customs Service to continue to suspend liquidation of all entries of structural steel beams from the Russian Federation that are entered, or withdrawn from warehouse, for consumption on or after December 28, 2001, the publication date of the preliminary determination in the Federal Register. The Customs Service shall continue to require a cash deposit or the posting of a bond based on the estimated weighted-average dumping margins shown above. The suspension-of-liquidation instructions will remain in effect until further notice.

The weighted-average margins are as follows:

Manufacturer/exporter | Margin (percent)
Nizhny Tagil Iron and Steel Works | 230.66
Russia-Wide Rate | 230.66

In accordance with section 735(c)(5)(A) of the Act, we have based the Russia-wide rate on the dumping margin found for the sole producer/ exporter investigated in this proceeding, Tagil.

ITC Notification

In accordance with section 735(d) of the Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue an antidumping duty order directing customs officials to assess antidumping duties on all imports of the subject merchandise entered, or withdrawn from warehouse, for consumption on or after the effective date of the suspension of liquidation.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections section 735(d) and 777(i) of the Act.

Dated: May 13, 2002.
Faryar Shirzad,
Assistant Secretary for Import Administration.,

Appendix—Issues in the Decision Memorandum

Comments

Comment 1: Valuation of By-Products

Comment 2: Sales of “I” Beams

Comment 3: Inventory Carrying Costs

Comment 4: Labor Costs

[FR Doc. 02-12597 Filed 5-17-02; 8:45 am]

BILLING CODE 3510-DS-P